DEPARTMENT OF HOMELAND SECURITY

Coast Guard

33 CFR Part 117

[CGD05-04-027]

RIN 1625-AA09

Drawbridge Operation Regulations; Atlantic Intracoastal Waterway, Wrightsville Beach, NC

AGENCY: Coast Guard, DHS.

ACTION: Notice of temporary deviation from regulations.

SUMMARY: The Coast Guard has approved a temporary deviation from the regulations governing the operation of the S.R. 74 Bridge across the Atlantic Intracoastal Waterway mile 283.1, at Wrightsville Beach, NC. This deviation allows this double-leaf drawbridge to provide half-leaf openings for vessels from 6 a.m. on February 12, 2004, to 10 p.m. on March 5, 2004, except from 10 p.m. to 6 a.m. on February 19 the bridge will not open, and each day from 10 p.m. to 6 a.m. on February 22 through February 27 the bridge will not open. This closure is necessary to facilitate mechanical repairs.

DATES: This deviation is effective from 6 a.m. on February 12, 2004 through 10 p.m. on March 5, 2004.

SUPPLEMENTARY INFORMATION: The S.R. 74 Bridge is owned and operated by the North Carolina Department of Transportation (NCDOT). NCDOT has requested a temporary deviation from the operating regulations to facilitate needed mechanical repairs to the bridge.

The work involves the machining of damaged trunnion shafts and the installation of a new bushing on the east side lift span of the bridge. To facilitate the repairs, the work requires immobilizing the east side lift span in the closed position to vessels while the west side lift span will be functional beginning 6 a.m. on February 12, 2004, through 10 p.m. on March 12, 2004. However, the bridge will not open for vessels from 10 p.m. to 6 a.m. on February 19 and each day from 10 p.m. to 6 a.m. on February 22 through February 27, to remove and install the bushing. The Coast Guard has informed the known users of the waterway of the full and partial closure periods for the bridge caused by the temporary deviation.

The District Commander has granted temporary deviation from the operating requirements listed in 33 CFR 117 Subpart A for the purpose of repair completion of the drawbridge. This temporary deviation allows the S.R. 74 Bridge, across the Atlantic Intracoastal Waterway mile 283.1, at Wrightsville Beach, NC, to operate half-leaf openings for vessels from 6 a.m. on February 12, 2004, through 10 p.m. on March 5, 2004, except from 10 p.m. to 6 a.m. on February 19 and each day from 10 p.m. to 6 a.m. on February 22 through February 27 the bridge will not open.

Dated: February 13, 2004.
Waverly W. Gregory, JR.,
Chief, Bridge Administration Section, Fifth Coast Guard District.

[FR Doc. 04-4208 Filed 2-25-04; 8:45 am]

BILLING CODE 4910-15-P